DEPARTMENT OF ENERGY

Federal Energy Regulatory Commission

Combined Notice of Filings

Take notice that the Commission has received the following Natural Gas Pipeline Rate and Refund Report filings:

Filings Instituting Proceedings

Docket Numbers: RP16-1259-000.

Applicants: Northern Natural Gas Company.

Description: § 4(d) Rate Filing: 20160929 Remove Non-Conforming Contracts to be effective 11/1/2016.

Filed Date: 9/29/16.

Accession Number: 20160929-5060.

Comments Due: 5 p.m. ET 10/11/16.

Docket Numbers: RP16-1260-000.

Applicants: El Paso Natural Gas Company, L.L.C.

Description: § 4(d) Rate Filing: Negotiated Rate Agreement Update (APS Oct 2016) to be effective 10/1/2016.

Filed Date: 9/29/16.

Accession Number: 20160929-5065.

Comments Due: 5 p.m. ET 10/11/16.

Docket Numbers: RP16-1261-000.

Applicants: Texas Eastern Transmission, LP.

Description: Compliance filing Gulf Markets 11-1-2016 In-Service CP15-90 Compliance Filing to be effective 11/1/2016.

Filed Date: 9/29/16.

Accession Number: 20160929-5075.

Comments Due: 5 p.m. ET 10/11/16.

Docket Numbers: RP16-1262-000.

Applicants: Natural Gas Pipeline Company of America.

Description: § 4(d) Rate Filing: Oklahoma Natural Gas Negotiated Rate to be effective 10/1/2016.

Filed Date: 9/29/16.

Accession Number: 20160929-5129.

Comments Due: 5 p.m. ET 10/11/16.

Docket Numbers: RP16-1263-000.

Applicants: Natural Gas Pipeline Company of America.

Description: § 4(d) Rate Filing: Navitas Utility Negotiated Rate to be effective 10/1/2016.

Filed Date: 9/29/16.

Accession Number: 20160929-5130.

Comments Due: 5 p.m. ET 10/11/16.

Docket Numbers: RP16-1264-000.

Applicants: Equitrans, L.P.

Description: § 4(d) Rate Filing: Expired Negotiated Rate Agreement to be effective 10/1/2016.

Filed Date: 9/29/16.

Accession Number: 20160929-5147.

Comments Due: 5 p.m. ET 10/11/16.

Docket Numbers: RP16-1265-000.

Applicants: Transcontinental Gas Pipe Line Company,

Description: § 4(d) Rate Filing: Negotiated Rates—Cherokee AGL—Replacement Shippers—Oct 2016 to be effective 10/1/2016.

Filed Date: 9/29/16.

Accession Number: 20160929-5149.

Comments Due: 5 p.m. ET 10/11/16.

Docket Numbers: RP16-1266-000.

Applicants: Dauphin Island Gathering Partners.

Description: § 4(d) Rate Filing: Negotiated Rate Filing 9-29-16 to be effective 10/1/2016.

Filed Date: 9/29/16.

Accession Number: 20160929-5161.

Comments Due: 5 p.m. ET 10/11/16.

Docket Numbers: RP16-1267-000.

Applicants: Alliance Pipeline L.P.

Description: § 4(d) Rate Filing: Delphi to Tidal Permanent Assignment to be effective 10/1/2016.

Filed Date: 9/29/16.

Accession Number: 20160929-5165.

Comments Due: 5 p.m. ET 10/11/16.

Docket Numbers: RP16-1268-000

Applicants: Texas Eastern Transmission, LP.

Description: Compliance filing TETLP OFO 2016 Penalty Disbursement Report.

Filed Date: 9/29/16.

Accession Number: 20160929-5168.

Comments Due: 5 p.m. ET 10/11/16.

Docket Numbers: RP16-1269-000.

Applicants: Algonquin Gas Transmission, LLC.

Description: Compliance filing AGT 2016 OFO Penalty Disbursement Report.

Filed Date: 9/29/16.

Accession Number: 20160929-5173.

Comments Due: 5 p.m. ET 10/11/16.

Docket Numbers: RP16-1270-000.

Applicants: ANR Pipeline Company.

Description: § 4(d) Rate Filing: Nicor Gas Non-conforming Agreement to be effective 11/1/2016.

Filed Date: 9/30/16.

Accession Number: 20160930-5004.

Comments Due: 5 p.m. ET 10/12/16.

Docket Numbers: RP16-1271-000.

Applicants: Trunkline Gas Company, LLC.

Description: § 4(d) Rate Filing: Fuel Filing on 9-30-16 to be effective 11/1/2016.

Filed Date: 9/30/16.

Accession Number: 20160930-5006.

Comments Due: 5 p.m. ET 10/12/16.

Docket Numbers: RP16-1272-000.

Applicants: Southwest Gas Storage Company.

Description: § 4(d) Rate Filing: Fuel Filing on 9-30-16 to be effective 11/1/2016.

Filed Date: 9/30/16.

Accession Number: 20160930-5007.

Comments Due: 5 p.m. ET 10/12/16.

Docket Numbers: RP16-1273-000.

Applicants: Gulf South Pipeline Company, LP.

Description: § 4(d) Rate Filing: Cap Rel Neg Rate Agmts (Atlanta 8438 to various eff 10-1-16) to be effective 10/1/2016.

Filed Date: 9/30/16.

Accession Number: 20160930-5011.

Comments Due: 5 p.m. ET 10/12/16.

Docket Numbers: RP16-1274-000.

Applicants: Gulf South Pipeline Company, LP.

Description: § 4(d) Rate Filing: Cap Rel Neg Rate Agmts (Encana 37663 to Texla 47182) to be effective 10/1/2016.

Filed Date: 9/30/16.

Accession Number: 20160930-5013.

Comments Due: 5 p.m. ET 10/12/16.

Docket Numbers: RP16-1275-000.

Applicants: Gulf South Pipeline Company, LP.

Description: § 4(d) Rate Filing: Cap Rel Neg Rate Agmt (PH 41455 to Texla 47183) to be effective 10/1/2016.

Filed Date: 9/30/16.

Accession Number: 20160930-5015.

Comments Due: 5 p.m. ET 10/12/16.

Docket Numbers: RP16-1276-000.

Applicants: Cheniere Creole Trail Pipeline, L.P.

Description: § 4(d) Rate Filing: Nov 2016 Fuel Retainage Filing to be effective 11/1/2016.

Filed Date: 9/30/16.

Accession Number: 20160930-5031.

Comments Due: 5 p.m. ET 10/12/16.

Docket Numbers: RP16-1277-000.

Applicants: Dominion Carolina Gas Transmission, LLC.

Description: § 4(d) Rate Filing: DCGT—Columbia to Eastover Project (CP15-504) Transport. Service and Neg. Rate to be effective 11/1/2016.

Filed Date: 9/30/16.

Accession Number: 20160930-5035.

Comments Due: 5 p.m. ET 10/12/16.

Docket Numbers: RP16-1278-000.

Applicants: Texas Eastern Transmission, LP.

Description: § 4(d) Rate Filing: Negotiated Rates—Peoples TWP Contract 911299 to be effective 11/1/2016.

Filed Date: 9/30/16.

Accession Number: 20160930-5037.

Comments Due: 5 p.m. ET 10/12/16.

Docket Numbers: RP16-1279-000.

Applicants: Columbia Gulf Transmission, LLC.

Description: § 4(d) Rate Filing: Negotiated Rate Service Agmt—Kaiser Amendment to be effective 11/1/2016.

Filed Date: 9/30/16.

Accession Number: 20160930-5052.

Comments Due: 5 p.m. ET 10/12/16.

Docket Numbers: RP16-1280-000.

Applicants: Young Gas Storage Company, Ltd.

Description: Annual Operational Purchases and Sales Report of Young Gas Storage Company, Ltd. under RP16-1280.

Filed Date: 9/29/16.

Accession Number: 20160929-5204.

Comments Due: 5 p.m. ET 10/11/16.

Docket Numbers: RP16-1281-000.

Applicants: Dominion Transmission, Inc.

Description: § 4(d) Rate Filing: DTI—Lebanon West II Project (CP14-555) Transportation Service Implementation to be effective 11/1/2016.

Filed Date: 9/30/16.

Accession Number: 20160930-5060.

Comments Due: 5 p.m. ET 10/12/16.

Docket Numbers: RP16-1282-000

Applicants: Panhandle Eastern Pipe Line Company, LP.

Description: § 4(d) Rate Filing: Fuel Filing on 9-30-16 to be effective 11/1/2016.

Filed Date: 9/30/16.

Accession Number: 20160930-5063.

Comments Due: 5 p.m. ET 10/12/16.

Docket Numbers: RP16-1283-000.

Applicants: Columbia Gas Transmission, LLC.

Description: § 4(d) Rate Filing: Out-of-Cycle RAM 2016 to be effective 11/1/2016.

Filed Date: 9/30/16.

Accession Number: 20160930-5065.

Comments Due: 5 p.m. ET 10/12/16.

Docket Numbers: RP16-1284-000.

Applicants: Columbia Gulf Transmission, LLC.

Description: § 4(d) Rate Filing: Negotiated Rate Amendment—Texla to be effective 11/1/2016.

Filed Date: 9/30/16.

Accession Number: 20160930-5066.

Comments Due: 5 p.m. ET 10/12/16.

Docket Numbers: RP16-1285-000.

Applicants: Dominion Carolina Gas Transmission, LLC.

Description: § 4(d) Rate Filing: DCGT—2016 FRQ & TDA Report to be effective 11/1/2016.

Filed Date: 9/30/16.

Accession Number: 20160930-5069.

Comments Due: 5 p.m. ET 10/12/16.

Docket Numbers: RP16-1286-000.

Applicants: Dominion Transmission, Inc.

Description: § 4(d) Rate Filing: DTI—Clarington Project (CP14-496) Transportation Service & Negotiated Rate to be effective 11/1/2016.

Filed Date: 9/30/16.

Accession Number: 20160930-5081.

Comments Due: 5 p.m. ET 10/12/16.

Docket Numbers: RP16-1287-000.

Applicants: Maritimes & Northeast Pipeline, L.L.C.

Description: Compliance filing MNUS FRQ 2016 Filing.

Filed Date: 9/30/16.

Accession Number: 20160930-5095.

Comments Due: 5 p.m. ET 10/12/16.

Docket Numbers: RP16-1288-000.

Applicants: Texas Gas Transmission, LLC.

Description: § 4(d) Rate Filing: 2016 Fuel Tracker Filing to be effective 11/1/2016.

Filed Date: 9/30/16.

Accession Number: 20160930-5121.

Comments Due: 5 p.m. ET 10/12/16.

Docket Numbers: RP16-1289-000.

Applicants: Natural Gas Pipeline Company of America.

Description: § 4(d) Rate Filing: Antero Resources, North Shore and Occidental Energy Negotiated Rate to be effective 11/1/2016.

Filed Date: 9/30/16.

Accession Number: 20160930-5127.

Comments Due: 5 p.m. ET 10/12/16.

Docket Numbers: RP16-1290-000.

Applicants: Wyoming Interstate Company, L.L.C.

Description: Annual Operational Purchases and Sales Report of Wyoming Interstate Company, L.L.C.

Filed Date: 9/29/16.

Accession Number: 20160929-5217.

Comments Due: 5 p.m. ET 10/11/16.

Docket Numbers: RP16-1291-000.

Applicants: Enable Mississippi River Transmission, L.

Description: 2016 Annual Penalty Revenue Credit Filing of Enable Mississippi River Transmission, LLC.

Filed Date: 9/29/16.

Accession Number: 20160929-5222.

Comments Due: 5 p.m. ET 10/11/16.

Docket Numbers: RP16-1292-000.

Applicants: Guardian Pipeline, L.L.C.

Description: § 4(d) Rate Filing: EPCR Semi-Annual Adjustment—Fall 2016 to be effective 11/1/2016.

Filed Date: 9/30/16.

Accession Number: 20160930-5158.

Comments Due: 5 p.m. ET 10/12/16.

Docket Numbers: RP16-1293-000.

Applicants: Rockies Express Pipeline LLC.

Description: § 4(d) Rate Filing: Neg Rate 2016-09-30 CP to be effective 10/1/2016.

Filed Date: 9/30/16.

Accession Number: 20160930-5166.

Comments Due: 5 p.m. ET 10/12/16.

Docket Numbers: RP16-1294-000.

Applicants: Guardian Pipeline, L.L.C.

Description: § 4(d) Rate Filing: Transporter's Use Gas Annual Adjustment—Fall 2016 to be effective 11/1/2016.

Filed Date: 9/30/16.

Accession Number: 20160930-5194.

Comments Due: 5 p.m. ET 10/12/16.

Docket Numbers: RP16-1295-000.

Applicants: Gulf South Pipeline Company, LP.

Description: § 4(d) Rate Filing: Neg Rate Agmt and Cap Rel Agmt (Colorado Bend 46260) to be effective 10/1/2016.

Filed Date: 9/30/16.

Accession Number: 20160930-5195.

Comments Due: 5 p.m. ET 10/12/16.

Docket Numbers: RP16-1296-000.

Applicants: Viking Gas Transmission Company.

Description: § 4(d) Rate Filing: Semi-Annual FLRP—Fall 2016 to be effective 11/1/2016.

Filed Date: 9/30/16.

Accession Number: 20160930-5201.

Comments Due: 5 p.m. ET 10/12/16.

Docket Numbers: RP16-1297-000.

Applicants: Natural Gas Pipeline Company of America.

Description: § 4(d) Rate Filing: Chicago Market Expansion to be effective 11/1/2016.

Filed Date: 9/30/16.

Accession Number: 20160930-5205.

Comments Due: 5 p.m. ET 10/12/16.

Docket Numbers: RP16-1298-000.

Applicants: Dominion Transmission, Inc.

Description: § 4(d) Rate Filing: DTI—2016 Annual EPCA to be effective 11/1/2016.

Filed Date: 9/30/16.

Accession Number: 20160930-5210.

Comments Due: 5 p.m. ET 10/12/16.

Docket Numbers: RP16-1299-000.

Applicants: Kinetica Energy Express, LLC.

Description: § 4(d) Rate Filing: Tariff Revision Filing to be effective 11/1/2016.

Filed Date: 9/30/16.

Accession Number: 20160930-5242.

Comments Due: 5 p.m. ET 10/12/16.

Docket Numbers: RP16-1300-000.

Applicants: Kern River Gas Transmission Company.

Description: § 4(d) Rate Filing: 2016 October Negotiated Rate Agreements to be effective 10/1/2016.

Filed Date: 9/30/16.

Accession Number: 20160930-5250.

Comments Due: 5 p.m. ET 10/12/16.

Docket Numbers: RP16-1301-000.

Applicants: Rockies Express Pipeline LLC.

Description: § 4(d) Rate Filing: Interim FL&U Electric Power Periodic Rate Adjustment to be effective 11/1/2016.

Filed Date: 9/30/16.

Accession Number: 20160930-5257.

Comments Due: 5 p.m. ET 10/12/16.

Docket Numbers: RP16-1302-000.

Applicants: Algonquin Gas Transmission, LLC.

Description: Compliance filing Salem Lateral—In Service Compliance Filing CP14-522-000 to be effective 11/1/2016.

Filed Date: 9/30/16.

Accession Number: 20160930-5267.

Comments Due: 5 p.m. ET 10/12/16.

Docket Numbers: RP16-1303-000.

Applicants: Dominion Transmission, Inc.

Description: § 4(d) Rate Filing: DTI—2016 Annual TCRA to be effective 11/1/2016.

Filed Date: 9/30/16.

Accession Number: 20160930-5278.

Comments Due: 5 p.m. ET 10/12/16.

Docket Numbers: RP16-1304-000.

Applicants: Alliance Pipeline L.P.

Description: § 4(d) Rate Filing: November 1 2016 Negotiated Rate Contracts to be effective 11/1/2016.

Filed Date: 9/30/16.

Accession Number: 20160930-5281.

Comments Due: 5 p.m. ET 10/12/16.

Docket Numbers: RP16-1305-000.

Applicants: Natural Gas Pipeline Company of America.

Description: § 4(d) Rate Filing: Rice Energy Marketing Negotiated Rate to be effective 11/1/2016.

Filed Date: 9/30/16.

Accession Number: 20160930-5283.

Comments Due: 5 p.m. ET 10/12/16.

Docket Numbers: RP16-1306-000

Applicants: Tennessee Gas Pipeline Company, L.L.C.

Description: § 4(d) Rate Filing: Volume No. 2—Neg. Rate Agrmt—MEX Gas Supply, S.L SP301591 to be effective 10/1/2016.

Filed Date: 9/30/16.

Accession Number: 20160930-5285.

Comments Due: 5 p.m. ET 10/12/16.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

Filings in Existing Proceedings

Docket Numbers: RP13-606-002.

Applicants: Columbia Gas Transmission, LLC.

Description: Compliance filing Chesapeake LNG True-Up to be effective 11/1/2016.

Filed Date: 9/30/16.

Accession Number: 20160930-5064.

Comments Due: 5 p.m. ET 10/12/16.

Docket Numbers: RP16-1162-001.

Applicants: Gulf Crossing Pipeline Company LLC.

Description: Compliance filing Compliance Filing in Docket No. RP16-1162-000 to be effective 9/1/2016.

Filed Date: 9/30/16.

Accession Number: 20160930-5008.

Comments Due: 5 p.m. ET 10/12/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 3, 2016.
Nathaniel J. Davis, Sr.,
Deputy Secretary.

[FR Doc. 2016-24556 Filed 10-11-16; 8:45 am]

BILLING CODE 6717-01-P